DEPARTMENT OF LABOR

Employment and Training Administration

[TA-W-80,147]

Travelers Insurance, a Subsidiary of the Travelers Indemnity Company, Personal Insurance Division, Account Processing/Underwriting, Syracuse, NY; Notice of Termination of Investigation

Pursuant to Section 221 of the Trade Act of 1974, as amended, an investigation was initiated in response to a petition filed on May 4, 2011 on behalf of workers of Travelers Insurance, a subsidiary of The Travelers Indemnity Company, Personal Insurance Division, Account Processing/Underwriting Group, Syracuse, New York. On August 31, 2011, the Department issued an amended certification of TA-W-75,232A that included workers and former workers of The Travelers Indemnity Company, a wholly-owned subsidiary of The Travelers Companies, Inc., Personal Insurance Division, Customer Sales and Service Business Unit, Account Processing/Underwriting Unit, Syracuse, New York, who were totally or partially separated or threatened with such separation from February 10, 2010 through March 25, 2013. On September 15, 2011, the Department issued a Notice of Negative Determination Regarding Application for Reconsideration, stating that the workers were eligible to apply for worker adjustment assistance under TA-W-75,232A.

As required by the Trade Adjustment Assistance (TAA) Extension Act of 2011 (the TAAEA), the investigation into this petition was reopened for a reconsideration investigation to apply the requirements for worker group eligibility under chapter 2 of title II of the Trade Act of 1974, as amended by the TAAEA, to the facts of this petition.

The worker group on whose behalf the petition was filed is covered under an existing certification (TA-W-75,232A) which expires on March 25, 2013. Consequently, the investigation has been terminated.

Signed in Washington, DC, this 1st day of December, 2011.
Del Min Amy Chen,
Certifying Officer, Office of Trade Adjustment Assistance.

[FR Doc. 2011-32612 Filed 12-20-11; 8:45 am]

BILLING CODE 4510-FN-P